DEPARTMENT OF HOMELAND SECURITY

Office of the Secretary

Senior Executive Service Performance Review Board

AGENCY: Office of the Secretary, DHS.

ACTION: Notice.

SUMMARY: This notice announces the appointment of the members of the Senior Executive Service Performance Review Boards for the Department of Homeland Security. The purpose of the Performance Review Board is to view and make recommendations concerning proposed performance appraisals, ratings, bonuses, pay adjustments, and other appropriate personnel actions for incumbents of Senior Executive Service, Senior Level and Senior Professional positions of the Department.

DATES: Effective Dates: This Notice is effective September 23, 2010.

FOR FURTHER INFORMATION CONTACT: Elizabeth Haefeli, Office of the Chief Human Capital Officer, telephone (202) 357-8164.

SUPPLEMENTARY INFORMATION: Each Federal agency is required to establish one or more performance review boards (PRB) to make recommendations, as necessary, in regard to the performance of senior executives within the agency. 5 U.S.C. 4314(c). This notice announces the appointment of the members of the PRB for the Department of Homeland Security (DHS). The purpose of the PRB is to review and make recommendations concerning proposed performance appraisals, ratings, bonuses, pay adjustments, and other appropriate personnel actions for incumbents of SES positions within DHS.

The Board shall consist of at least three members. In the case of an appraisal of a career appointee, more than half of the members shall consist of career appointees. Composition of the specific PRBs will be determined on an ad hoc basis from among the individuals listed below:

Aguilar, David V.

Alexander, Barbara

Alikhan, Arif

Anderson, Audrey

Anderson, Gary L.

Armstrong, Charles R.

Ayala, Janice

Aytes, Michael L.

Bacon, Roxana

Baldwin, William D.

Baroukh, Nader

Barr, Suzanne E.

Bathurst, Donald

Beckham, Steward D.

Benda, Francis

Bertucci, Theresa C.

Bester-Markowitz, Margot

Borkowski, Mark S.

Borras, Rafael

Boyd, David

Braun, Jacob

Bray, Robert S.

Brooks, Vicki

Brundage, William

Bucella, Donna A.

Bucher, Steven P.

Buckingham, Patricia A.

Burke, Richard

Butcher, Michael

Button, Christopher

Cahill, Donna L.

Callahan, Mary Ellen

Canton, Lynn G.

Capps, Michael

Carpenter, Dea D.

Carter, Gary

Carwile III, William L.

Chaparro, James M.

Chavez, Richard

Chuang, Theodore

Cipicchio, Domenico C.

Cohn, Alan

Colburn, Christopher B.

Connor, Edward L.

Cooper, Bradford

Coyle, Robert E.

Crocetti Jr., Louis D.

Cullen, Susan M.

Cummiskey, Chris

Daitch, William

Davis, Delia P.

Dayton, Mark

de Vallance, Brian

DeVita, Charles N.

DiFalco, Frank

Dinkins, James A.

Dong, Norman S.

Doyle, Christopher

Duffy, Patricia M.

Dunlap, James L.

Duong, Anh

Durette, Paul

Durkovich, Caitlin

Elias, Richard K.

Etzel, Jean A.

Fagerholm, Eric

Falk, Scott K.

Farmer, Robert A.

Fenton, Robert J.

Finegan, Robin A.

Fitzgerald-Rogers, Debra A.

Foster, Robert

Freeman, Beth A.

Gaines, Glenn A.

Garratt, David E.

Garza, Alexander

Gaugler, Christine E.

George, Susan

Gina, Allen

Gnerlich, Jan

Gordon, Andrew S.

Gowadia, Huban

Grade, Deborah C.

Gramlick, Carl

Graves, Margaret

Griffin, Robert

Gruber, Corey D.

Guilliams, Nancy W.

Gunderson, Richard

Hanneld, Michael

Hansen, Jacob B.

Hardiman, Tara

Hewitt, Ronald T. RADM

Heyman, David

Hill, Alice

Hill, Keith

Holt, Michael A.

Holterman, Keith

Hooks, Robert

Humphrey IV, Hubert H.

Ingram, Deborah

Israel, Jerome

Jensen, Robert R.

Johnson, Bart

Jones Jr., Berl D.

Jones, Christopher T.

Jones, Franklin C.

Jones, Keith

Jones, Rendell L.

Kair, Lee R.

Kaufman, David J.

Kayyem, Juliette

Keegan, Michael J.

Keene, D. Kenneth

Kerner, Francine

Kielsmeier, Lauren M.

Kieserman, Brad J.

Kikla, Richard

Kim, Leezie

Kish, James R.

Knight, Sandra K.

Kopel, Richard

Kostelnik, Michael C.

Koumans, Marnix

Krohmer, Jon

Kroloff, Noah

Kronish, Matthew

Kruger, Mary

Lawless, Margaret E.

Lawrence, Cortez

Lederer, Calvin M.

Loiselle, Mary

López, Marco A.

Luczko, George P.

Ludtke, Meghan G.

Lute, Jane Holl

Maher, Joseph B.

Marshall, Gregory

Martin, David A.

Martin, Timothy

Martoccia, Anthony R.

Massale, John J.

May, Daniel R. RDML

May, Major P.

McAllister, Lorna

McCormack, Luke J.

McDermond, James E.

McDevitt, Steven P.

McGinnis, Roger

McMillan, Joseph A.

McNamara, Jason R.

McNamara, Philip

McQuillan, Thomas R.

Merritt, Marianna L.

Merritt, Michael

Mitchell, Andrew

Monette Jr., Theodore A.

Morrissey, Paul S.

Moynihan, Timothy N.

Muenchau, Ernest

Myers, David L.

Neal, Jeffrey R.

Neufeld, Donald W.

Nicholson, David

O'Connell, Maria L.

Olavarria, Esther

Oliver, Clifford E.

Onieal, Denis G.

Patrick, Connie

Palmer, David J.

Parent, Wayne

Peacock, Nelson

Pelowski, Gregg

Peña, Alonzo R.

Penn, Damon C.

Philbin, Patrick

Pierson, Julia A.

Prewitt, Keith L.

Ragsdale, Daniel H.

Ramanathan, Sue

Randolph, William C.

Ratliff, Gerri L.

Rausch, Sharla

Robles, Alfonso

Rosenblum, Todd

Rossides, Gale

Russell, Anthony A.

Russell, Michael D.

Sammon, John P

Sandweg, John

Saunders, Steve D.

Schaffer, Gregory

Schied, Eugene H.

Schlanger, Margo

Scialabba, Lori L.

Sekar, Radha C.

Sevier, Adrian

Shall, Darryl A.

Shelton-Waters, Karen R.

Sherry, Peggy

Shih, Stephen

Shlossman, Amy

Sligh Jr., Albert B.

Smislova, Melissa

Smith, A.T.

Smith, Douglas

Smith, Eric T.

Smith, Sean

Spires, Richard

Stenger, Michael C.

Stern, Warren

Stieber, Gregory

Stinnett, Melanie

Swain, Donald

Teets, Gregory L.

Tomsheck, James F.

Torrence, Donald

Triner, Donald

Trissell, David A.

Trotta, Nicholas

Tuttle, James

Velasquez III, Andrew

Veysey, Anne

Vincent, Peter S.

Wagner, Caryn

Walke, James A.

Walton, Kimberly H.

Ward, Nancy L.

Wareing, Tracy L.

Warrick, Thomas

Whalen, Mary Kate

Williams, Gerard

Williams, Richard

Winkowski, Thomas S.

Woodard, Steven C.

Yeager, Michael J.

Zeller, Randel

Zimmerman, Elizabeth A.

This notice does not constitute a significant regulatory action under section 3(f) of Executive Order 12866. Therefore, DHS has not submitted this notice to the Office of Management and Budget. Further, because this notice is a matter of agency organization, procedure and practice, DHS is not required to follow the rulemaking requirements under the Administrative Procedure Act (5 U.S.C. 553).

Dated: September 16, 2010.
Randolph W. Kruger,
Director, Executive Resources, Office of the Chief Human Capital Officer.

[FR Doc. 2010-23805 Filed 9-22-10; 8:45 am]

BILLING CODE 9110-9B-P